ENVIRONMENTAL PROTECTION AGENCY

[EPA-HQ-OECA-2014-0093; FRL-9223-18-OEI]

Information Collection Request Submitted to OMB for Review and Approval; Comment Request; NESHAP for Coal- and Oil-Fired Electric Utility Steam Generating Units (Renewal)

AGENCY: Environmental Protection Agency, (EPA).

ACTION: Notice.

SUMMARY: The Environmental Protection Agency has submitted an information collection request (ICR), “NESHAP for Coal- and Oil-Fired Electric Utility Steam Generating Units (40 CFR part 63, subpart UUUUU) (Renewal)” (EPA ICR No. 2137.07, OMB Control No. 2060-0567) to the Office of Management and Budget (OMB) for review and approval in accordance with the Paperwork Reduction Act (44 U.S.C. 3501 et seq.). This is a proposed extension of the ICR, which is currently approved through April 30, 2015. Public comments were previously requested via the Federal Register (79 FR 30117) on May 27, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before April 15, 2015.

ADDRESSES: Submit your comments, referencing Docket ID Number EPA-HQ-OECA-2014-0093, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Potential respondents are owners and operators of coal- and oil-fired electric utility steam generating units (EGUs). The final rule regulates HCl, filterable PM, Hg, and organic HAP from coal-fired EGUs. For oil-fired EGUs, the final rule regulates HCl, HF, filterable PM, and organic HAP. Following initial performance tests, owners/operators of EGUs will be required to demonstrate compliance with emission limits through continuously monitoring PM, Hg, HCl, and HF (oil-fired EGUs) emissions. The final rule includes a work practice standard for organic HAP; the work practice standard requires the implementation of periodic burner tune-up procedures. Respondents will be required to notify EPA of performance tests and CEMS demonstrations, and to maintain records demonstrating compliance with each emission limit and work practice standard. This information is being collected to assure compliance with 40 CFR part 63, subpart UUUUU.

Form Numbers: None.

Respondents/affected entities: Owners and operators of coal and oil-fired EGUs.

Respondent's obligation to respond: Mandatory (40 CFR part 63, subpart UUUUU).

Estimated number of respondents: 1,254 (total).

Frequency of response: Initially, occasionally and semiannually.

Total estimated burden: 670,241 hours (per year). Burden is defined at 5 CFR 1320.3(b).

Total estimated cost: $67,306,156 (per year), includes $1,685,748 annualized capital or operation & maintenance costs.

Changes in the Estimates: There is a decrease of 30,055 hours in the total estimated respondent burden compared with the ICR currently approved by OMB. These changes are because the standard has been in effect for more than three years and the requirements are different during initial compliance as compared to on-going compliance.

Courtney Kerwin,
Acting Director, Collection Strategies Division.

[FR Doc. 2015-05935 Filed 3-13-15; 8:45 am]

BILLING CODE 6560-50-P